DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.). These take permits are for research and recovery purposes.

Permit No. TE-041875-0

Applicant: John L. Koprowski, Tucson, Arizona.

Applicant requests a permit to capture, ear-tag, and release Mt. Graham red squirrels (Tamiasciurus hudsonicus grahamensis) for a population ecology study within Arizona.

Permit No. TE-041877-0

Applicant: Southland Consulting Services, L.L.C., Clinton, Louisiana.

Applicant requests a permit to conduct presence/absence surveys for interior least tern (Sterna antillarum athalassos) in Oklahoma and Texas.

Permit No. TE-042679-0

Applicant: Charles A. Bergman, Tacoma Washington.

Applicant requests a permit to photograph a southwestern willow flycatcher (Empidonax traillii extimus) at a nest site in Arizona as part of an education book concerning endangered species.

Permit No. TE-042663-0

Applicant: Kathleen E. Conway, Grand Junction, Colorado.

Applicant requests a permit to conduct presence/absence surveys for southwestern willow flycatcher (Empidonax traillii extimus) within Colorado.

Permit No. TE-041874-0

Applicant: WestWater Engineering, Grand Junction, Colorado.

Applicant requests a permit to conduct presence/absence surveys for southwestern willow flycatcher (Empidonax traillii extimus) within Colorado.

Permit No. TE-041869-0

Applicant: The Louis Berger Group, Inc., Santa Fe, New Mexico.

Applicant requests a permit to conduct presence/absence surveys for southwestern willow flycatcher (Empidonax traillii extimus) within Arizona, New Mexico, Colorado, California, and Nevada.

Permit No. TE-042659-0

Applicant: Marty R. Stratman, Gunnison, Colorado.

Applicant requests a permit to conduct presence/absence surveys for southwestern willow flycatcher (Empidonax traillii extimus) within Colorado.

Permit No. TE-041873-0

Applicant: Lynn Cudlip, Gunnison, Colorado.

Applicant requests a permit to conduct presence/absence surveys for southwestern willow flycatcher (Empidonax traillii extimus) within Colorado.

Permit No. TE-041868-0

Applicant: Kevin L. Hamann, Edgewood, New Mexico.

Applicant requests a permit to conduct presence/absence surveys for southwestern willow flycatcher (Empidonax traillii extimus) within Arizona, New Mexico, and Colorado.

Permit No. TE-042958-0

Applicant: Dwight Chapman, dba, Southwest Research, Boulder, Colorado.

Applicant requests a permit to conduct presence/absence surveys for southwestern willow flycatcher (Empidonax traillii extimus) within Utah.

Permit No. TE-043060-0

Applicant: ERO Resources Corporation, Denver, Colorado.

Applicant requests a permit to conduct presence/absence surveys for southwestern willow flycatcher (Empidonax traillii extimus) within Colorado.

Permit No. TE-042955-0

Applicant: Greystone Environmental Consultants, Inc., Greenwood Village, Colorado.

Applicant requests a permit to conduct presence/absence surveys for southwestern willow flycatcher (Empidonax traillii extimus), Yuma clapper rail (Rallus longirostris yumanensis), and cactus ferruginous pygmy-owl (Glaucidium brasilianum cactorum) within Arizona.

Permit No. TE-023159-1

Applicant: SORA (Southwestern Ornithological Research & Adventures), Albuquerque, New Mexico.

Applicant requests a permit to conduct presence/absence surveys for the northern aplomado falcon (Falco femoralis septentrionalis) within New Mexico.

Permit No. TE-042662-0

Applicant: Charles Rex Wahl, Tucson, Arizona.

Applicant requests a permit conduct presence/absence surveys for the following species: Brown pelican (Pelicanus occidentalis), Yuma clapper rail (Rallus longirostris yumanensis), black-capped vireo (Vireo atricapillus), golden-cheeked warbler (Dendroica chrysoparia), piping plover (Charadrius melodus), cactus ferruginous pygmy-owl (Glaucidium brasilianum cactorum), Mexican spotted owl (Strix occidentalis lucida) and southwestern willow flycatcher (Empidonax traillii extimus) within Texas, Arizona, and New Mexico.

Permit No. TE-041879-0

Applicant: Michele S. Johnson, Houston, Texas.

Applicant requests a permit to capture and rehabilitate the brown pelican (Pelicanus occidentalis) and piping plover (Charadrius melodus) in case of an oil spill or if orphaned or injured within Texas.

Permit No. TE-042951-0

Applicant: Gila River Indian Community, Department of Land and Water, Sacaton, Arizona.

Applicant requests a permit to propagate bonytail chub (Gila elegans) for restocking into the Colorado River at Lake Havasu, Arizona.

Permit No. TE-042961-0

Applicant: Marlis R. Douglas, Fort Collins, Colorado.

Applicant requests a permit to capture, tag, take fin clippings for genetic analyses of bonytail chub (Gila elegans) within Arizona.

Permit No. TE-028649-0

Applicant: Chris Thibodaux, Wimberley, Texas.

Applicant requests a permit to conduct presence/absence surveys for the following karst invertebrates species in Bexar County, Texas: Helotes mold beetle (Batrisodes venyivi), Robber Baron Cave harvestman (Texella cokendolpheri), Robber Baron Cave spider (Cicurina baronia), Madla's cave spider (Cicurina madla), vesper cave spider (Cincurina vespera), Government Canyon cave spider (Neoleptoneta microps), as well as another cave spider (Cicurina venii) and two cave beetles (Rhadine exilis and Rhadine infernalis) that do not have common names. These activities will be conducted within Texas.

Permit No. TE-041876-0

Applicant: Loreen Allphin Woolstenhulme, Provo, Utah.

Applicant requests a permit to collect plant parts, fruits, and seeds from the Sentry milk-vetch (Astragalus cremnophalax var. cremnophalax) within Arizona.

Permit No. TE-042662-0

Applicant: Gena K. Janssen, Austin, Texas.

Applicant requests a permit to collect fruits and seeds from the following plant species: Zapata bladderpod (Lesquerella thamnophila), Texas Ayenia (Ayenia limitaris), Walker's manioc (Manihot walkerae), and Johnston's frankenia (Frankenia johnstonii) within Texas.

DATES: Written comments on these permit applications must be received on or before June 25, 2001.

ADDRESS: Written data or comments should be submitted to the Chief, Endangered Species Division, Ecological Services, P.O. Box 1306, Room 4102, Albuquerque, New Mexico 87103; (505) 248-6649; Fax (505) 248-6788. Documents will be available for public inspection by written request, by appointment only, during normal business hours (8:00 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Stephen C. Helfert,
Assistant Regional Director, Ecological Services, Region 2, Albuquerque, New Mexico.

[FR Doc. 01-13241 Filed 5-24-01; 8:45 am]

BILLING CODE 4310-55-U